DEPARTMENT OF STATE

[Public Notice 3611]

Bureau of Educational and Cultural Affairs Request for Grant Proposals: U.S.-Israel Youth Exchange

SUMMARY: The Youth Programs Division, Office of Citizen Exchanges of the Bureau of Educational and Cultural Affairs announces an open competition for U.S.-Israel Youth Exchange. Public and private non-profit organizations meeting the provisions described in IRS regulation 26 CFR 1.501(c) may submit proposals to conduct an exchange involving American and Israeli high school students.

Program Information

Overview: The United States and Israel are both multi-ethnic societies that struggle with issues of diversity. The purpose of the youth exchange project is to provide an opportunity for youth in both countries to learn about each other, explore how diversity issues compare and contrast between the two societies and to learn from each other and from experts how to deal with tensions and conflict that affect inter-ethnic community relations. The participants will also examine the major factors—especially constitutional, political, social and religious—that shape how each country manages the rights of minorities in the context of a democratic society. Finally, the project will provide an opportunity for each side to examine key foreign policy issues between the United States and Israel.

It is anticipated that one grant in an amount not to exceed $100,000 will be awarded. Preference will be given to proposals that build upon ongoing exchange programs addressing the themes outlined above, rather than to proposals that initiate new exchange activities. Each side will select a delegation that represents the ethnic diversity of its society. Selection should be based on merit with an emphasis on youth who demonstrate leadership abilities, knowledge of diversity issues, and good communication skills. The Public Affairs Section of the American Embassy in Tel Aviv will play a central role in the selection of Israeli participants. The applicant U.S. organization must demonstrate that its Israeli partner is able and willing to work with the American Embassy staff to effect the desired selection, to conduct pre-departure orientation, and to provide programming for the American delegation in keeping with the themes of this project. The Israeli delegation will spend three weeks in the U.S. with an initial orientation in Washington, DC in which the project themes are developed. Most of the stay will be in one or two host communities, living with families, learning about school life, and participating in activities in the community that support the themes of the project. The delegation may be divided in this phase so that groups spend time in diverse communities. A final wrap-up program component will be in New York or another major city. The American delegation will have similar experience in Israel for a three-week period. The applicant organization may propose ways in which the two delegations might meet and interact for part of the program. It may also propose ways in which each delegation can initiate contact with the other before the exchange to begin exploring the themes with each other and lay the foundation for their joint activities during the exchange. Follow-up contact should be structured so that the dialogue continues after the exchange.

Guidelines: The grant is intended to support activities during the academic year 2001-2002. Grant activity may begin following final approval, which is anticipated to be August 1, 2001. Foreign participants will travel of J-1 Exchange Visitor visas using IAP66 forms issued by the ECA program office. The grantee organization is responsible for administering all components of the program, including any sub-grant to the Israeli partner organization, which must be spelled out in the proposal. See accompanying Project Objectives, Guidelines and Instructions (POGI) for detailed specifications for the proposal.

Programs must comply with J-1 visa regulations. Please refer to Solicitation Package for further information.

Budget Guidelines

Grants awarded to eligible organizations with less than four years of experience in conducting international exchange programs will be limited to $60,000. Since the Bureau anticipates awarding one grant in the amount of $100,000, to support program and administrative costs required to implement this program, organizations with less than four years of experience conducting exchanges will be ineligible. The ECA grant is not intended to be a substitute for private funding to support the existing program; rather, as noted above, the grant is intended primarily to subsidize participant costs and make possible activities that support the thematic foci.

Applicants must submit a comprehensive budget for the entire program, indicating where ECA grant funds will be applied. There must be a summary budget as well as breakdowns reflecting both administrative and program budgets. Applicants may provide separate sub-budgets for each program component, phase, location, or activity to provide clarification.

Allowable costs for the program include the following:

(1) Participant selection, orientation, travel and program enhancements.

(2) Reasonable administrative costs—Proposed funding for administrative costs in excess of 15% of the total grant will be less competitive. This is an area where cost-sharing is strongly encouraged.

Please refer to the Solicitation Package for complete budget guidelines and formatting instructions.

Announcement Title and Number: All correspondence with the Bureau concerning this RFGP should reference the above title and number ECA/PE/C/PY-01-40.

FOR FURTHER INFORMATION CONTACT: The Youth Programs Division, Office of Citizen Exchanges (ECA/PE/C/PY) Rm. 568, U.S. Department of State, 301 4th Street, SW., Washington, DC 20547, telephone 202-619-6299, fax 202-619-5311. Robert Persiko, division chief, can be reached on e mail: rpersiko@pd.state.gov. To request a Solicitation Package, contact the Youth Programs Division or download the package online, as instructed below. The Solicitation Package contains the above-mentioned POGI with detailed proposal submission guidelines and award criteria, and the Proposal Submission Instructions (PSI) with required application forms and specific budget instructions. Please specify the Youth Programs Division on all inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's website at http://exchanges.state.gov/education/RFGPs. Please read all information before downloading.

Deadline for Proposals

All proposal copies must be received at the Bureau of Educational and Cultural Affairs by 5 p.m. Washington, D.C. time on Monday, April 30. Faxed documents will not be accepted at any time. Documents postmarked the due date but received on a later date will not be accepted. Each applicant must ensure that the proposals are received by the above deadline.

Applicants must follow all instructions in the Solicitation Package. The original proposal, one fully-tabbed copy, and seven copies including tabs A-E and appendices should be sent to: U.S. Department of State, SA-44, Bureau of Educational and Cultural Affairs, Ref.: ECA/PE/C/PY-01-40, Program Management, ECA/EX/PM, Room 534, 301 4th Street, SW., Washington, DC 20547.

Applicants must also submit the “Executive Summary” and “Proposal Narrative” sections of the proposal on a 3.5” diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Acting Assistant Secretary for Educational and Cultural Affairs. Final technical authority for assistance awards resides with the Bureau's Grants Officer.

Review Criteria

Technically eligible applications will be competitively reviewed according to the criteria stated below. Proposals should adequately address each area of review. These criteria are not rank ordered.

1. Quality of the program idea: Proposals should exhibit originality, substance, precision, and relevance to the Bureau's mission.

2. Program planning and ability to achieve program objectives: Program objectives should be stated clearly and precisely and should reflect the applicant's understanding of the project. Objectives need to be reasonable, attainable, and flexible. Proposals should clearly demonstrate how the institution would meet the program's objectives. A detailed agenda and work plan should explain how the objectives will be achieved and the expected outcomes realized. The agenda and plan should adhere to the program overview and guidelines described above.

3. Multiplier effect/impact: Proposals should show how the program would strengthen long-term mutual understanding, including maximum sharing of information in the host communities and establishment of long-term institutional and individual linkages.

4. Support of Diversity: Proposals should demonstrate substantive support of the Bureau's policy on diversity. Both program administration (selection of participants, program venue and program evaluation) and program content (orientation and wrap-up sessions, program meetings, resource materials and follow-up activities) should address diversity in a comprehensive and innovative manner.

5. Institutional Capacity and Record: Proposed personnel and institutional resources should be adequate and appropriate to achieve the program or project's goals. The proposal should reflect institutional expertise in the subject area and knowledge of the conditions in the target country. Proposals should demonstrate an institutional record of successful exchange programs, including responsible fiscal management and full compliance with all reporting requirements for past Bureau grants as determined by Bureau Grant Staff. The Bureau will consider the past performance of prior recipients and the demonstrated potential of new applicants.

6. Follow-on Activities: Proposals should provide a plan for continued follow-on activity (without Bureau support) ensuring that Bureau supported programs are not isolated events. Follow-on activities should be clearly outlined.

7. Program Evaluation: Proposals must include a plan and methodology to evaluate the program's successes, both as the activities unfold and at the end of the program. The Bureau recommends that the proposal include a draft survey questionnaire or other technique. The evaluation plan should show a clear link between program objectives and expected outcomes in the short- and medium-term, and provide a well-thought-out description of performance indicators and measurement tools.

8. Cost-effectiveness/cost-sharing: The overhead and administrative components of the proposal, including salaries and honoraria, should be kept as low as possible. All other items should be necessary and appropriate. Administrative costs should account for 15% or less of the funding requested from the Bureau. Applicants are encouraged to cost share a portion of overhead and administrative expenses. Cost-sharing, such as auditable contributions from the applicant, the Israeli partner, the participants, and other sources, should be included in the budget.

9. Value to U.S.-Israeli relations The Bureau's review will include an assessment by the regional bureau (NIS/PD) and the American Embassy in Tel Aviv of the value of the proposed program to mission goals.

Authority

Overall grant making authority for this program is contained in the Mutual Educational and Cultural Exchange Act of 1961, Public Law 87-256, as amended, also known as the Fulbright-Hays Act. The purpose of the Act is “to enable the Government of the United States to increase mutual understanding between the people of the United States and the people of other countries * * * ; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: March 14, 2001.
Helena Kane Finn,
Acting Assistant Secretary for Educational and Cultural Affairs, U.S. Department of State.

[FR Doc. 01-7159; Filed 3-21-01; 8:45 am]

BILLING CODE 4710-05-P